DEPARTMENT OF COMMERCE

International Trade Administration

[A-331-802]

Certain Frozen Warmwater Shrimp from Ecuador; Partial Rescission of Antidumping Duty Administrative Review

AGENCY: Import Administration, International Trade Administration, Department of Commerce.

EFFECTIVE DATE: July 20, 2006.

FOR FURTHER INFORMATION CONTACT: David Goldberger or Gemal Brangman, AD/CVD Operations, Office 2, Import Administration, International Trade Administration, U.S. Department of Commerce, 14th Street and Constitution Avenue, NW., Washington, DC 20230; telephone: (202) 482-4136 or (202) 482-3773, respectively.

SUPPLEMENTARY INFORMATION:

Background

On February 1, 2006, the Department of Commerce (the Department) published in the Federal Register a notice of opportunity to request an administrative review of the antidumping duty order on certain frozen warmwater shrimp from Ecuador for the period August 4, 2004, through January 31, 2006. See Antidumping or Countervailing Duty Order, Finding, or Suspended Investigation; Opportunity to Request Administrative Review, 71 FR 5239 (February 1, 2006). On February 28, 2006, in accordance with 19 CFR 351.213(b)(2), certain respondents requested a review of the antidumping duty order on certain frozen warmwater shrimp from Ecuador. In addition, on February 28, 2006, the petitioner¹ also requested an administrative review for numerous Ecuadorian exporters of subject merchandise in accordance with 19 CFR 351.213(b)(1).

¹ The petitioner in this proceeding is the Ad Hoc Shrimp Trade Action Committee.

In April 2006, the Department initiated an administrative review for 71 companies and we requested that each provide data on the quantity and value of its exports of subject merchandise to the United States during the period of review (POR). These companies are listed in the Department's notice of initiation. See Notice of Initiation of Administrative Reviews of the Antidumping Duty Orders on Certain Frozen Warmwater Shrimp from Brazil, Ecuador, India and Thailand, 71 FR 17819 (April 7, 2006) (Notice of Initiation).

Between May 24, 2006, and July 6, 2006, the requests for administrative review were withdrawn for 46 companies, in accordance with 19 CFR 351.213(d)(1). These companies are:

1) Agricola e Industrial Ecuaplantation; 2) Alquimia Marina S.A.; 3) Babychic SA; 4) Brimon, S.A.; 5) Dunci S.A.; 6) Eculine; 7) Edpacif; 8) El Rosario (ERSA) S.A.; 9) Empacadora del Pacifico S.A. (Edpacif S.A.); 10) Empacadora Dufer Cia. Ltda.; 11) Empacadora Grupo Gran Mar Empagran S.A.; 12) Empacadora Nacional C.A.; 13) Empacadora Bilbo S.A. (Bilbosa); 14) Empagran; 15) Estar C.A.; 16) Exporklore, S.A.; 17) Exportadora Bananera Noboa; 18) Exports del Oceano ; 19) Gondi S.A.; 20) Industrial Pesquera Santa Priscila SA; 21) Industrial Pesquera Santa Priscilla; 22) Inepexa Inc.; 23) Karpicorp S.A.; 24) Marecuador Co Ltda.; 25) Marisco; 26) Mariscos de Chupadores Chupamar; 27) Mariscos del Ecuador c.l. Marecuador; 28) Mariscos del Ecuador Marecuador Co.; 29) Negocios Industriales Real NIRSA S.A.; 30) Novapesca SA; 31) Oceanmundo S.A.; 32) Oceanpro S.A.; 33) Operadora y Procesadora de Products Marinos OMARSA S.A.; 34) Oyerly SA; 35) P.C. Seafood SA; 36) Peslasa S.A.; 37) Phillips Seafood of Ecuador S.A.; 38) Procesadora del Rio Proriosa SA; 39) Procesadora Del Rio S.A. Proriosa; 40) Proriosa sa Procesadora del Rio SA; 41) Seafood Padre Aguirre; 42) Sociedad Nacional de Galapagos C.A.; 43) Soitgar; 44) Tecnica & Comercio de la Pesca Teco; 45) Transmarina C. A.; and 46) Unilines Transport System. Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.

In addition, the petitioner requested a review of a single company twice under two different names: Jorge Luis and Jorge Luis Benitez Lopez. According to information on the record of this proceeding (i.e., the company's submission on May 9, 2006), these two company names refer to the same company, and the correct legal name for this company is Jorge Luis Benitez Lopez. We clarify that we will include this company in our administrative review only once. Therefore, because the company identified above will be included in this administrative review, and because keeping the incorrect company name with the list of companies included in this administrative review creates administrative difficulties, we are rescinding the review of Jorge Luis.

Partial Rescission of Review

As noted above, the petitioner and certain respondents withdrew their requests for an administrative review for the following companies within the time limits set forth in 19 CFR 351.213(d)(1): Agricola e Industrial Ecuaplantation; Alquimia Marina S.A.; Babychic SA; Brimon, S.A.; Dunci S.A.; Eculine; Edpacif ; El Rosario (ERSA) S.A.; Empacadora del Pacifico S.A. (Edpacif S.A.); Empacadora Dufer Cia. Ltda.; Empacadora Grupo Gran Mar Empagran S.A.; Empacadora Nacional C.A.; Empacadora Bilbo S.A. (Bilbosa); Empagran; Estar C.A.; Exporklore, S.A.; Exportadora Bananera Noboa; Exports del Oceano; Gondi S.A.; Industrial Pesquera Santa Priscila SA; Industrial Pesquera Santa Priscilla; Inepexa Inc.; Karpicorp S.A.; Marecuador Co Ltda.; Marisco; Mariscos de Chupadores Chupamar; Mariscos del Ecuador c.l. Marecuador; Mariscos del Ecuador Marecuador Co.; Negocios Industriales Real NIRSA S.A.; Novapesca SA; Oceanmundo S.A.; Oceanpro S.A.; Operadora y Procesadora de Products Marinos OMARSA S.A.; Oyerly SA; P.C. Seafood SA; Peslasa S.A.; Phillips Seafood of Ecuador S.A.; Procesadora del Rio Proriosa SA; Procesadora Del Rio S.A. Proriosa; Proriosa sa Procesadora del Rio SA; Seafood Padre Aguirre; Sociedad Nacional de Galapagos C.A.; Soitgar; Tecnica & Comercio de la Pesca Teco; Transmarina C. A.; and Unilines Transport System. Therefore, because no other interested party requested a review for these companies, in accordance with 19 CFR 351.213(d)(1), we are rescinding this review with respect to these companies. Additionally, as noted above, we are rescinding the review of Jorge Luis.

This notice is published in accordance with section 751 of the Tariff Act of 1930, as amended, and 19 CFR 351.213(d)(4).

Dated: July 14, 2006.
Stephen J. Claeys,
Deputy Assistant Secretary for Import Administration.

[FR Doc. E6-11546 Filed 7-19-06; 8:45 am]

BILLING CODE 3510-DS-S